DEPARTMENT OF JUSTICE

Notice of Lodging of Proposed Partial Consent Decree Under the Clean Water Act

On January 28, 2016, the Department of Justice lodged a proposed Partial Consent Decree with the United States District Court for the Northern District of Mississippi in the lawsuit entitled United States and the State of Mississippi v. City of Greenville, Mississippi, Civil Action No. 4:16-cv-00018-DMB-JMV.

The United States and the State of Mississippi filed this lawsuit under the Clean Water Act and the Mississippi Air and Water Pollution Control Law. The complaint seeks injunctive relief and civil penalties for violations in connection with the City's sanitary sewer system. The City has grouped mini-systems within the sewer system into three different groups and prioritized Sewer Group 1 and Sewer Group 2 for sewer assessment and rehabilitation work. The Partial Consent Decree provides for the City to conduct early action projects; capacity, management, operations, and maintenance program; and assessment and rehabilitation of Sewer Groups 1 and 2. The partial settlement will not resolve the claims for civil penalties or for injunctive relief related to Sewer Group 3, as those will be the topics of future negotiation among the parties.

The publication of this notice opens a period for public comment on the Partial Consent Decree. Comments should be addressed to the Assistant Attorney General, Environment and Natural Resources Division, and should refer to United States and the State of Mississippi v. City of Greenville, Mississippi, D.J. Ref. No. 90-5-1-1-10932. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Partial Consent Decree may be examined and downloaded at this Justice Department Web site: http://www.justice.gov/enrd/consent-decrees. We will provide a paper copy of the Partial Consent Decree upon written request and payment of reproduction costs. Please mail your request and payment to: Consent Decree Library, U.S. DOJ—ENRD, P.O. Box 7611, Washington, DC 20044-7611.

Please enclose a check or money order for $60.50 (25 cents per page reproduction cost) payable to the United States Treasury. For a paper copy without the appendices, the cost is $14.

Henry S. Friedman,
Assistant Section Chief, Environmental Enforcement Section, Environment and Natural Resources Division.

[FR Doc. 2016-02068 Filed 2-3-16; 8:45 am]

BILLING CODE 4410-15-P